Title 3—

The President

Presidential Determination No. 2023-06 of March 27, 2023

Presidential Determination Pursuant to Section 303 of the Defense Production Act of 1950, as Amended, on Printed Circuit Boards and Advanced Packaging Production Capability

Memorandum for the Secretary of Defense

Ensuring a robust, resilient, and sustainable domestic industrial base is essential for the national defense. Therefore, by the authority vested in me as President by the Constitution and the laws of the United States of America, including section 303 of the Defense Production Act of 1950, as amended (the “Act”) (50 U.S.C. 4533), I hereby determine, pursuant to section 303(a)(5) of the Act, that:

(1) printed circuit boards and advanced packaging, their components, and the manufacturing systems that produce such systems and components are industrial resources, materials, or critical technology items essential to national defense;

(2) without Presidential action under section 303 of the Act, United States industry cannot reasonably be expected to provide the capability for the needed industrial resource, material, or critical technology item in a timely manner; and

(3) purchases, purchase commitments, or other action pursuant to section 303 of the Act are the most cost-effective, expedient, and practical alternative method for meeting the need.

Pursuant to section 303(a)(7)(B) of the Act, I find that action to expand the domestic production capability for printed circuit boards and advanced packaging is necessary to avert an industrial resource or critical technology item shortfall that would severely impair national defense capability. Therefore, I waive the requirements of section 303(a)(1)-(a)(6) of the Act for the purpose of expanding the domestic production capability for these supply chains.

You are authorized and directed to publish this determination in the Federal Register.

THE WHITE HOUSE,

Washington, March 27, 2023

[FR Doc. 2023-06921

Filed 3-30-23; 11:15 am]

Billing code 5001-06-P